DEPARTMENT OF COMMERCE

National Oceanic and Atmospheric Administration

RIN: 0648-XS49

New England Fishery Management Council; Public Meetings

AGENCY: National Marine Fisheries Service (NMFS), National Oceanic and Atmospheric Administration (NOAA), Commerce.

ACTION: Notice of public meetings.

SUMMARY: The New England Fishery Management Council's (Council) Herring Advisory Panel and Oversight Committee along with the Atlantic States Marine Fisheries Commission (ASMFC) Section will hold two meetings to consider actions affecting New England fisheries in the exclusive economic zone (EEZ).

DATES: These meetings will be held in November 2009. For specific dates and times, see SUPPLEMENTARY INFORMATION.

ADDRESSES: These meetings will be held at the Sheraton Harborside Hotel, 250 Market Street, Portsmouth, NH 03801; telephone: (603) 431-2300; fax: (603) 431-7805.

Council address: New England Fishery Management Council, 50 Water Street, Mill #2, Newburyport, MA 01950.

FOR FURTHER INFORMATION CONTACT: Paul J. Howard, Executive Director, New England Fishery Management Council; telephone: (978) 465-0492.

SUPPLEMENTARY INFORMATION: The committee's schedule and agenda for the following meetings are as follows:

Advisory Panel Agenda:

Monday, November 9, 2009 beginning at 10 a.m.

1. Review Draft 2010-12 Atlantic herring fishery specifications, options for total allowable catches/annual catch limits, and all available related analysis; develop Advisory Panel (AP) recommendations regarding 2010-12 specifications for the Herring Committee/Section to consider on November 10;

2. Review Herring Committee work on catch monitoring alternatives to be included in Amendment 5 to the Herring Fishery Management Plan (FMP); discuss issues related to reporting, herring Letters of Authorization (LOA), and proposed measures to address LOAs, carrier vessels, and transfers at sea; develop AP recommendations as appropriate.

Oversight Committee Agenda:

Tuesday, November 10, 2009 beginning at 9:30 a.m.

1. Review Draft 2010-12 Atlantic herring fishery specifications; discuss options for total allowable catches/annual catch limits, and review all available related analysis and recommendations from the Herring Plan Development Team (PDT);

2. Review/discuss NEFMC Herring AP recommendations related to 2010-12 fishery specifications;

3. Develop final recommendations for domestic annual harvesting (DAH), domestic annual processing (DAP), joint venture processing (JVP), border transfer (BT), total allowable level of foreign fishing (TALFF), research set-asides (RSAs), optimum yield (OY), and other related specifications;

4. Discuss/address management uncertainty and develop related recommendations;

5. Develop final recommendations for 2010-12 annual catch limits (ACLs) for herring management areas, for Council consideration November 17-19, 2009;

6. Address other issues related to 2010-12 herring fishery specifications.

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: October 15, 2009.
Tracey L. Thompson,
Acting Director, Office of Sustainable Fisheries, National Marine Fisheries Service.

[FR Doc. E9-25132 Filed 10-19-09; 8:45 am]

BILLING CODE 3510-22-S